ENVIRONMENTAL PROTECTION AGENCY

[ER-FRL-6641-8]

Public Input Requested on the Proposed Site Designation of the “LA-3” Ocean Dredged Material Disposal Site off Newport Bay, Orange County, California

AGENCY: Environmental Protection Agency (EPA).

ACTION: Notice of Intent to initiate the scoping phase for public input in advance of preparing an Environmental Impact Statement (EIS) to designate “LA-3” as a permanent ocean dredged material disposal site (ODMDS) off Newport Bay, California.

Purpose: EPA has the authority to designate ODMDS under Section 102 of the Marine Protection, Research and Sanctuaries Act (MPRSA) of 1972 (33USC 1401 et seq.). EPA's preparation of this EIS is being carried out pursuant to the October 29, 1998 Notice of Policy and Procedures for Voluntary Preparation of National Environmental Policy Act (NEPA) (63 FR 58045). Public comments on the scope of the EIS evaluation will be accepted for 45 days from the date of this notice.

FOR FURTHER INFORMATION, TO SUBMIT COMMENTS, AND TO BE PLACED ON A PROJECT MAILING LIST, CONTACT: Mr. Allan Ota, U.S. Environmental Protection Agency, Region 9, Dredging and Sediment Management Team (WTR-8), 75 Hawthorne Street, San Francisco, California 94105-3901, Telephone: (415) 972-3476 or FAX: (415) 947-3537 or E-mail: R9_LA3LA2disposal sites_scoping@ epa.gov.

SUMMARY: EPA intends to conduct public meetings and collect public comments in advance of preparing an EIS to designate LA-3 as a permanent ODMDS off Newport Bay, California. The EIS will also re-evaluate an annual disposal volume limit for the existing LA-2 ODMDS, and how to minimize cumulative environmental impacts from two ODMDS in the region.

Need for Action: Dredging is essential for maintaining safe navigation in harbors and marinas in the Los Angeles County and Orange County region. Not all dredged materials are suitable for beneficial re-use (e.g., construction, wetlands restoration), and it is not feasible to use the existing LA-2 ODMDS for all projects in the region. The LA-3 ODMDS has been used by some Orange County projects in the past, but its “interim” status has expired. Therefore there is a need to designate LA-3 as a permanent ODMDS.

Alternatives: The following proposed alternatives have been tentatively defined.

—“No Action”—Do not designate LA-3 as a permanent ODMDS, and continue to manage the existing LA-2 ODMDS without a designated maximum annual disposal volume limit.

—“Maximize Use of LA-2”—Do not designate LA-3 as a permanent ODMDS, but establish a maximum annual disposal volume limit for the LA-2 site adequate to meet the ocean disposal needs of all Los Angeles-Orange County region projects.

—“Local Use of LA-3 and LA-2”—Designate LA-3 as a permanent ODMDS primarily for Orange County projects, and establish a higher maximum annual disposal volume limit for LA-2 to accommodate most Los Angeles area projects.

—“Maximize Use of LA-3”—Designate LA-3 as a permanent ODMDS with a maximum annual disposal limit to meet the ocean disposal needs of all Los Angeles-Orange County region projects to the extent feasible, and establish an annual disposal volume limit for LA-2 to accommodate only those projects that could not feasibly use LA-3.

Scoping: EPA is requesting written comments from federal, state, and local governments, industry, non-governmental organizations, and the general public on the need for action, the range of alternatives considered, and the potential impacts of the alternatives. Scoping comments will be accepted for 45 days, beginning with the date of this Notice. Public scoping meetings are scheduled at two locations on the following dates: 1. July 21, 2003, 2-4 p.m. and 7-9 p.m., in Orange County at the Upper Newport Bay Peter and Mary Muth Interpretive Center, 2301 University Drive, Newport Beach, California 92660 (corner of University Drive and Irvine Avenue). 2. July 22, 2003, 2-4 p.m. and 7-9 p.m., in Los Angeles County at the Port of Long Beach, 925 Harbor Plaza, Long Beach, California 90802, on the 5th Floor Conference Room.

Estimated Date of Draft EIS Release: February 2004.

Dated: June 30, 2003.
Anne Norton Miller,
Director, Office of Federal Activities.

[FR Doc. 03-16846 Filed 7-2-03; 8:45 am]

BILLING CODE 6560-50-P